INTERNATIONAL TRADE COMMISSION

[Investigation No. 337-TA-1373]

Certain Electronic Devices, Including Smartphones, Computers, Tablet Computers, and Components Thereof; Notice of a Commission Determination Not To Review an Initial Determination Granting Joint Motion To Terminate the Investigation Based on Arbitration; Termination of Investigation

AGENCY: U.S. International Trade Commission.

ACTION: Notice.

SUMMARY: Notice is hereby given that the U.S. International Trade Commission (“Commission”) has determined not to review an initial determination (“ID”) (Order No. 60) of the presiding administrative law judge (“ALJ”) granting a joint motion for termination of the investigation in its entirety based on arbitration. The investigation is terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On October 11, 2023, the Commission instituted this investigation under Section 337 of the Tariff Act of 1930, as amended, 19 U.S.C. 1337 (“section 337”), based on a complaint filed by InterDigital, Inc., InterDigital VC Holdings, and InterDigital Patent Holdings, Inc., all of Wilmington, Delaware; and InterDigital Madison Patent Holdings SAS of Paris, France (collectively, “InterDigital”). 88 FR 70425-26 (Oct. 11, 2023). The complaint, as supplemented, alleged violations of section 337 based upon the importation into the United States, the sale for importation, and the sale within the United States after importation of certain electronic devices, including smartphones, computers, tablet computers, and components thereof by reason of the infringement of certain claims of U.S. Patent Nos. 8,674,859; 8,737,933 (the '933 patent); 9,173,054 (the '054 patent); 9,674,556 (the '556 patent); and 10,250,877 (the '877 patent). Id. The complaint further alleged that an industry in the United States exists or is in the process of being established. Id. The notice of investigation named as respondents Lenovo Group Limited of Hong Kong SAR; Lenovo (United States) Inc. of Morrisville, North Carolina; and Motorola Mobility LLC of Chicago, Illinois. Id. The Office of Unfair Import Investigations (“OUII”) was named as a party to the investigation. Id.

On January 7, 2024, the Commission terminated the investigation as to respondent Lenovo Group Limited and amended the complaint and notice of investigation to add Lenovo PC HK Limited of Hong Kong SAR as a respondent. Order No. 16 (Dec. 18, 2023); unreviewed by Comm'n Notice (Jan. 8, 2024). As amended, the respondents named in the investigation are Lenovo PC HK Limited, Lenovo (United States) Inc., and Motorola Mobility LLC (collectively, “Respondents”).

On July 5, 2024, the Commission terminated the investigation as to claims 4 and 8 of the '877 patent. Order No. 42 (June 5, 2024); unreviewed by Comm'n Notice (July 5, 2024).

On August 1, 2024, the Commission terminated the investigation as to claims 4 and 8 of the '556 patent. Order No. 47 (July 12, 2024); unreviewed by Comm'n Notice (Aug. 1, 2024).

On August 26, 2024, the Commission terminated the investigation as to claims 1 and 23 of the '933 patent and claims 1 and 23 of the '054 patent. Order No. 51 (July 26, 2024); unreviewed by Comm'n Notice (Aug. 26, 2024).

On October 22, 2024, InterDigital and Respondents filed a joint motion to terminate the investigation based on arbitration. The joint motion stated that InterDigital and Respondents have a valid arbitration agreement regarding the patents asserted in the investigation, and termination of the investigation is consistent with public interest as it would conserve private and public resources and have no adverse effects to the public.

On November 1, 2024, OUII filed a response to the joint motion supporting termination of the investigation.

On November 7, 2024, the ALJ issued the subject ID (Order No. 60) pursuant to Commission Rule 210.21(d) (37 CFR 210.21(d)), granting the joint motion to terminate the investigation based on arbitration.

No petitions for review of the subject ID were filed.

The Commission has determined not to review the subject ID. The investigation is terminated.

The Commission vote for this determination took place on December 9, 2024.

The authority for the Commission's determination is contained in section 337 of the Tariff Act of 1930, as amended (19 U.S.C. 1337), and in part 210 of the Commission's Rules of Practice and Procedure (19 CFR part 210).

By order of the Commission.
Issued: December 9, 2024.
Lisa Barton,
Secretary to the Commission.

[FR Doc. 2024-29331 Filed 12-12-24; 8:45 am]

BILLING CODE 7020-02-P